FEDERAL COMMUNICATIONS COMMISSION

47 CFR Parts 73 and 74

[MB Docket No. 03-185; FCC 11-110]

Digital Low Power Television, Television Translator, and Television Booster Stations and To Amend Rules for Digital Class A Television Stations

AGENCY: Federal Communications Commission.

ACTION: Final rule; announcement of effective date.

SUMMARY: In this document, the Commission announces that the Office of Management and Budget (OMB) has approved, for a period of three years, the information collection requirements contained in a final rule published July 27, 2011. The information collection requirements were approved on February 7, 2011, and November 17, 2011, by OMB.

DATES: The amendments to 47 CFR 73.624(g), published at 76 FR 44821, July 27, 2011, are effective on November 28, 2011.

FOR FURTHER INFORMATION CONTACT: For additional information contact Cathy Williams on (202) 418-2918 or via email to: cathy.williams@fcc.gov.

SUPPLEMENTARY INFORMATION: This document announces that on February 7, 2011 and November 17, 2011, OMB approved, for a period of three years, the information collection requirements contained in 47 CFR 73.624(g). The Commission publishes this document to announce the effective date of this rule section. See, In the Matter of Amendment of Parts 73 and 74 of the Commission's Rules to Establish Rules for Digital Low Power Television, Television Translator, and Television Booster Stations and to Amend Rules for Digital Class A Television Stations, MB Docket No. 03-185; FCC 11-110, 76 FR 44821, July 27, 2011.

Synopsis

As required by the Paperwork Reduction Act of 1995, (44 U.S.C. 3507), the Commission is notifying the public that it received OMB approval on February 7, 2011 and November 17, 2011, for the information collection requirements contained in 47 CFR 73.624(g). Under 5 CFR part 1320, an agency may not conduct or sponsor a collection of information unless it displays a current, valid OMB Control Number.

No person shall be subject to any penalty for failing to comply with a collection of information subject to the Paperwork Reduction Act that does not display a valid OMB Control Number.

The OMB Control Number is 3060-0906 and the total annual reporting burdens for respondents for this information collection are as follows:

OMB Control Number: 3060-0906.

Title: 47 CFR 73.624(g), FCC Form 317.

OMB Approval Dates: February 7, 2011 and November 17, 2011.

OMB Expiration Date: November 30, 2014.

Form Number: FCC Form 317.

Type of Review: Revision of a currently approved collection.

Respondents: Business or other for profit entities; Not for profit institutions; State, local or Tribal government.

Number of Respondents/Responses: 9,351 respondents; 18,782 responses.

Estimated Hours per Response: 2-4 hours.

Frequency of Response: Recordkeeping requirement; Annual reporting requirement.

Total Annual Burden: 56,346 hours.

Total Annual Cost: $1,408,650.

Obligation to Respond: Required to obtain or retain benefits. The statutory authority for this information collection is contained in Sections 154(i), 301, 303, 336 and 403 of the Communications Act of 1934, as amended.

Nature and Extent of Confidentiality: There is no need for confidentiality with this collection of information.

Privacy Act Assessment: No impact(s).

Needs and Uses: 47 CFR 73.624(g) adds a new group of respondents to this collection (namely, “low power television, TV translator, and Class A television station DTV licensees”). The Commission has also revised FCC Form 317 and its instructions to indicate that low power television, TV translator, and Class A television station DTV licensees are required to file FCC Form 317 and to report their ancillary and supplementary services, make the required payment to the Commission, and retain the appropriate records.

Section 73.624(g) also adds a new group of respondents to this collection (namely, “low power television, TV translator, and Class A television station DTV stations operating pursuant to STA”). The Commission has also revised FCC Form 317 and its instructions to indicate that low power television, TV translator, and Class A television station DTV stations operating pursuant to STA are required to file FCC Form 317 (which includes reporting their ancillary and supplementary services, making the required payment to the Commission, and retaining the appropriate records).

Federal Communications Commission.
Marlene H. Dortch,
Secretary, Office of the Secretary, Office of Managing Director.

[FR Doc. 2011-30424 Filed 11-25-11; 8:45 am]

BILLING CODE 6712-01-P